DEPARTMENT OF COMMERCE

International Trade Administration

[A-570-888]

Floor-Standing, Metal-Top Ironing Tables and Certain Parts Thereof From the People's Republic of China; Notice of Amended Final Results of Antidumping Duty Administrative Review

AGENCY: Import Administration, International Trade Administration, Department of Commerce.

DATES: Effective Date: April 27, 2011.

FOR FURTHER INFORMATION CONTACT: Michael J. Heaney, or Robert James, AD/CVD Operations, Office 7, Import Administration, International Trade Administration, U.S. Department of Commerce, 14th Street and Constitution Avenue, NW., Washington, DC 20230; telephone: (202) 482-4475, and (202) 482-0649, respectively.

SUPPLEMENTARY INFORMATION:

Amendment to the Final Results

In accordance with sections 751(a) and 777(i)(1) of the Tariff Act of 1930, as amended, (the Act), on March 14, 2011, the Department issued its final results in the administrative review of the antidumping duty order on floor-standing, metal-top ironing tables and certain parts thereof from the People's Republic of China, covering the period August 1, 2008, to July 31, 2009. The final results were subsequently released to all parties in the proceeding, and published in the Federal Register on March 21, 2011. See Floor Standing, Metal Top, Ironing Tables and Certain Parts Thereof From the People's Republic of China: Final Results of Antidumping Duty Administrative Review, 76 FR 2332 (March 21, 2011) (Final Results). On March 22, 2011, and pursuant to section 751(h) of the Act and 19 CFR 351.224(c)(2), we received a timely allegation from Home Products International, the Petitioner in this administrative review, that the Department made ministerial errors with respect to two aspects of the margin calculation for Foshan Shunde Yongjian Housewares & Hardware Co. (Foshan Shunde). See Letter from Petitioner to the Department of Commerce, “Fifth Administrative Review of Floor Standing, Metal-Top Ironing Tables and Certain Parts Thereof from the People's Republic of China: Ministerial Errors Reflected in the Final Results of Review” dated March 22, 2011 (Petitioner Ministerial Letter).

On March 23, 2011, we received a timely-filed allegation from Since Hardware (Guangzhou) Co., Ltd. (Since Hardware) which alleged a ministerial error with respect to the Department's calculation of brokerage and handling. See Letter from Since Hardware to the Department of Commerce, titled “Floor-Standing Metal-Top Ironing Tables from China: Ministerial Error Comments” dated March 23, 2011 (Since Hardware Ministerial Letter). On March 25, 2011, we received comments from Petitioner regarding the ministerial error alleged by Since Hardware. See Letter from Petitioner to the Department of Commerce, regarding “Fifth Administrative Review of Floor-Standing, Metal-Top Ironing Tables and Certain Parts Thereof from the People's Republic of China: Petitioner's Reply to Ministerial Error Comments of Since Hardware (Guangzhou) Co., Ltd.” dated March 25, 2011 (Petitioners' Response Letter). On March 28, 2011, we received comments from Foshan Shunde regarding one of the ministerial errors alleged by Petitioner. See Letter from Foshan Shunde to the Department of Commerce, regarding “Certain Ironing Boards from the People's Republic of China Rebuttal Comments re Petitioner's Ministerial Error Comment” dated March 28, 2011 (Foshan Shunde Response Letter).

For a discussion of the Department's analysis of the allegations in the Petitioner Ministerial Letter, Since Hardware Ministerial Letter, Foshan Shunde Response Letter, and Petitioner Response Letter, see Memorandum from Gary Taverman, Acting Deputy Assistant Secretary for Antidumping and Countervailing Duty Operations to Ronald K. Lorentzen, Deputy Assistant Secretary for Import Administration, entitled, “Allegation of Ministerial Errors in the Final Results of the Antidumping Duty Administrative Review of Floor Standing, Metal-Top Ironing Tables, and Certain Parts Thereof from the People's Republic of China: Foshan Shunde Yongjian Housewares & Hardwares Co., Inc and Since Hardware (Guangzhou) Co., Ltd.” dated April 20, 2011 (Ministerial Error Allegation Memo).

A ministerial error, as defined at section 751(h) of the Act, includes “errors in addition, subtraction, or other arithmetic function, clerical errors resulting from inaccurate copying, duplication, or the like, and any other type of unintentional error which {the Department} considers ministerial.” See also 19 CFR 351.224(f). In its Ministerial Letter, Petitioner alleges that the Department made two ministerial errors in calculating Foshan Shunde's antidumping duty margin. First, Petitioner alleges that the Department made a ministerial error by including in packing materials certain elements that Foshan Shunde had classified as direct materials in its questionnaire responses to the Department. Second, Petitioner alleges that in the calculation of brokerage and handling expense, the Department incorrectly applied the weight and container size values actually incurred by Foshan Shunde.

In its rebuttal letter, Foshan Shunde commented only on Petitioner's allegation concerning the weight and container size values incurred by Foshan Shunde.

After analyzing Petitioner's ministerial error comments and Foshan Shunde's rebuttal comments, we have determined, in accordance with section 751(h) of the Act and 19 CFR 351.224(e), that we made ministerial errors with respect to both of the ministerial errors alleged by Petitioner. See Ministerial Error Allegation Memorandum at 2. The Department has corrected both the factors of production spreadsheet for Foshan Shunde and the margin program to reflect the correction of these errors.

In its Ministerial Letter, Since Hardware alleges that if the Department applies a weight based methodology to calculate brokerage and handling, it must change the data selected so as not to derive distorted results. In its rebuttal comments, Petitioner asserts there is no ministerial error in the Department's calculation of Since Hardware's brokerage and handling cost. Petitioner asserts that the Department's Final Results reflect the container size and shipment weight which the Department intended to use in its calculations. After analyzing Since Hardware's ministerial error comments and Petitioner's rebuttal comments, we have determined that we made no error in our calculation of Since Hardware's brokerage and handling. Id. Accordingly, we have made no changes to our calculation of Since Hardware's final margin.

Based upon the foregoing, in accordance with 19 CFR 351.224(e), we are amending the final results margin calculation in this antidumping duty administrative review of ironing tables and certain parts thereof from the People's Republic of China for Foshan Shunde. After correcting for the ministerial errors with respect to (1) the elements included within direct materials and packing, and (2) the weight and container size values incurred by Foshan Shunde, the amended final weighted-average dumping margin has changed for Foshan Shunde:

Manufacturer/Exporter | Final results weighted-average margin percentage | Amended final weighted-average margin percentage
Foshan Shunde | 18.76 percent | 23.61 percent.

Assessment Rates

Pursuant to section 751(a)(2)(A) of the Act and 19 CFR 351.212(b), the Department shall determine, and U.S. Customs and Border Protection (CBP) shall assess, antidumping duties on all appropriate entries. The Department intends to issue assessment instructions to CBP 15 days after the date of publication of these amended final results of review. For assessment purposes, where possible, we calculated importer-specific assessment rates for subject ironing tables from the PRC via ad valorem duty assessment rates based on the ratio of the total amount of the dumping margins calculated for the examined sales to the total entered value of those same sales. We will instruct CBP to assess antidumping duties on all appropriate entries covered by this review.

Cash Deposit Requirements

The following cash deposit requirements will be effective for any entries made on or after March 21, 2011, the date of publication of the Final Results, for all shipments of the subject merchandise entered, or withdrawn from warehouse, for consumption on or after the publication date, as provided for by section 751(a)(2)(C) of the Act: (1) For Foshan Shunde the cash deposit rate will be the amended 23.61 percent shown above; (2) for Since Hardware, the cash deposit rate will continue to be 70. 05 percent; (3) for previously-investigated or reviewed PRC and non-PRC exporters not listed above that have separate rates, the cash deposit rate will continue to be the exporter-specific rate published for the most recent period; (4) for all PRC exporters of subject merchandise that have not been found to be entitled to a separate rate, the cash deposit rate will be the PRC-wide rate of 157.68 percent; and (5) for all non-PRC exporters of subject merchandise which have not received their own rate, the cash deposit rate will be the rate applicable to the PRC exporters that supplied that non-PRC exporter. These deposit requirements, when imposed, shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these amended final results of review and notice in accordance with sections 751(h) and 777(i) of the Act.

Dated: April 20, 2011.
Ronald K. Lorentzen,
Deputy Assistant Secretary for Import Administration.

[FR Doc. 2011-10227 Filed 4-26-11; 8:45 am]

BILLING CODE 3510-DS-P